DEPARTMENT OF TRANSPORTATION

Federal Aviation Administration

Aviation Rulemaking Advisory Committee; Aircraft Certification Procedures Issues Meeting

AGENCY: Federal Aviation Administration (FAA), DOT.

ACTION: Notice of public meeting.

SUMMARY: This notice announces a public meeting of the Federal Aviation Administration's Aviation Rulemaking Advisory Committee to discuss Aircraft Certification Procedures issues.

DATES: The meeting will be held on November 16, 2001, from 8:30 a.m. to 11:30 a.m. Arrange for oral presentations by November 2, 2001.

ADDRESSES: The meeting will be held at the Federal Aviation Administration, 800 Independence Ave. SW., room 827, Washington, DC 20591.

FOR FURTHER INFORMATION CONTACT: Marisa Mullen, FAA, Office of Rulemaking (ARM-205), 800 Independence Avenue, SW., Washington, DC 20591; telephone: (202) 267-7653, fax: (202) 267-5075.

SUPPLEMENTARY INFORMATION: Pursuant to § 10(a)(2) of the Federal Advisory Committee Act (Pub. L. 92-463; 5 U.S.C. App. II), notice is hereby given of a meeting of the Aviation Rulemaking Advisory Committee to be held on November 16, 2001, from 8:30 a.m. to 11:30 a.m. at the Federal Aviation Administration, 800 Independence Ave. SW., room 827, Washington, DC. The agenda will include:

1. Opening Remarks.

2. Committee Administration.

3. A discussion and vote on the Parts and Production Certification Working Group draft advisory documents, entitled “Working Group Guidance Material Recommendations Approval Holder Quality System Requirements” and “Replacement And Modification Part Design Approval Procedures.”

4. A status report on the Parts and Production Certification Working Group's remaining tasks.

5. Future Meetings.

Attendance is open to the interested public, but will be limited to the space available. The FAA will arrange teleconference capability for individuals wishing to participate by teleconference if we receive notification before November 2, 2001. Arrangements to participate by teleconference can be made by contacting the person listed in the FOR FURTHER INFORMATION CONTACT section. Callers outside the Washington metropolitan area will be responsible for paying long distance charges.

The public must make arrangements by November 2, 2001, to present oral statements at the meeting. The public may present written statements to the committee at any time by providing 25 copies to the Assistant Executive Director, or by bringing the copies to the meeting. Public statements will only be considered if time permits. In addition, sign and oral interpretation, as well as an assistive listening device, can be made available at the meeting, if requested 10 calendar days before the meeting. Arrangements may be made by contacting the person listed under the heading FOR FURTHER INFORMATION CONTACT.

Issued in Washington, DC, on October 18, 2001.
Brian Yanez,
Assistant Executive Director for Aircraft Certification Procedures Issues, Aviation Rulemaking Advisory Committee.

[FR Doc. 01-26913 Filed 10-24-01; 8:45 am]

BILLING CODE 4910-13-M